DEPARTMENT OF COMMERCE

National Oceanic and Atmospheric Administration

[Docket No.: 000616180-4095-08]

RIN 0648-ZA91

NOAA Climate and Global Change Program, FY 2005 Program Announcement

AGENCY: Office of Global Programs, Office of Oceanic and Atmospheric Research, National Oceanic and Atmospheric Administration, Department of Commerce.

ACTION: Notice.

SUMMARY: The Climate and Global Change Program represents a National Oceanic and Atmospheric Administration (NOAA) contribution to evolving national and international programs designed to improve our ability to observe, understand, predict, and respond to changes in the global environment. This program builds on NOAA's mission requirements and long-standing capabilities in global change research and prediction. The NOAA Program is a key contributing element of the U.S. Climate Change Science Program (CCSP), which is coordinated by the interagency Committee on Environmental and Natural Resources. NOAA's program is designed to complement other agencies' contributions to that national effort.

DATES: Letters of Intent should be received by 5 p.m. Eastern Time April 14, 2004. Full proposals must be received at the Office of Global Programs no later than 5 p.m. Eastern Time May 24, 2004.

ADDRESSES: Full Proposals must be submitted to: Grants Manager, Office of Global Programs, National Oceanic and Atmospheric Administration, 1100 Wayne Avenue, Suite 1210, Silver Spring, MD 20910-5603. Letters of Intent should be submitted by e-mail to ogpgrants@noaa.gov or may be mailed to the address above.

FOR FURTHER INFORMATION CONTACT: Diane S. Brown, Grants Manager (see ADDRESSES), phone at 301-427-2089, ext. 107, fax to 301-427-2082, or e-mail at ogpgrants@ noaa.gov.

SUPPLEMENTARY INFORMATION: Electronic Access: Applicants should read the full text of the full funding opportunity announcement which can be accessed at the OGP Web site: http://www.ogp.noaa.gov or the central NOAA site: www.ofa.noaa.gov/~amd/SOLINDEX.HTML. This announcement will also be available through Grants.gov at http://www.Grants.gov. The standard NOAA application kit is available on the OGP Web site at: http://www.opg.noaa.gov/grants/appkit.htm.

Evaluation and Selection Procedures: NOAA published its first omnibus notice announcing the availability of grant funds for both projects and fellowships/scholarship/internships for Fiscal Year 2004 in the Federal Register on June 30, 2003 (68 FR 38678). The evaluation criteria and selection procedures contained in the June 30, 2003 omnibus notice are applicable to this solicitation. For a copy of the June 30, 2003 omnibus notice please go to: http://www/ofa.noaa.gov/~amd/SOLINDEX.HTML.

Funding Availability: Please be advised that actual funding levels will depend upon the final FY 2005 budget appropriations. In FY 2003, $8.2M in first year funding was available for 63 new awards; similar funds and number of awards are anticipated in FY 2004 and FY 2005. We anticipate that the annual cost of most funded projects will fall between $50,000 and $200,000 per year. Current plans assume that 100% of the total resources provided through this announcement will support extramural efforts, particularly those involving the broad academic community. Past or current grantees funded under this announcement are eligible to apply for a new award which builds on previous activities or areas of research not covered in the previous award. Current grantees should not request supplementary funding for ongoing research through this announcement. This program will not cover tuition remission for graduate students above $2,500/year or computing and networking services above $1,000/year per grant.

Statutory Authority: 49 U.S.C. 44720 (b); 33 U.S.C. 883d; 15 U.S.C. 2904; 15 U.S.C. 2931-2934.

CFDA: No. 11.431, Climate and Atmospheric Research.

Eligibility: Eligible applicants are institutions of higher education, other nonprofits, commercial organizations, international organizations, state, local and Indian tribal governments. Federal agencies or institutions are not eligible to receive Federal assistance under this notice.

Cost Sharing Requirements: Cost Sharing is not required.

Letters of Intent: The purpose of the LOI process is to provide information to potential applicants on the relevance of their proposed project to the Climate and Global Change Program and the likelihood of it being funded in advance of preparing a full proposal. While it is in the best interest of the applicants and their institutions to submit an LOI explaining the work they propose to carry out and how much it will cost, it is not a requirement; applicants who do not submit an LOI are allowed to submit a full proposal. A panel of program managers will review each LOI to determine its responsiveness to the program goals as advertised in this notice and will provide an e-mail or letter response.

Limitation of Liability: Funding for the programs listed in this notice are contingent upon the availability of Fiscal Year 2005 appropriations. In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216-6-TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

The Department of Commerce Pre-Award Notification Requirements for Grants and Cooperative Agreements: The Department of Commerce Pre-Award Notification Requirements for Grants and Cooperative Agreements contained in the Federal Register notice of October 1, 2001 (67 FR 49917), as amended by the Federal Register notice published on October 30, 2002 (67 FR 66109), are applicable to this solicitation.

Paperwork Reduction Act

This document contains collection-of-information requirements subject to the Paperwork Reduction Act (PRA). The use of Standard Forms 424 and 424A, 424B, SF-LLL, and CD-346 have been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Intergovernmental Review

Applications under this program are not subject to Executive Order 12372, “Intergovernmental Review of federal programs.”

Administrative Procedure Act/ Regulatory Flexibility Act

Prior notice and an opportunity for public comments are not required by the Administrative Procedure Act or any other law for this notice concerning grants, benefits, and contracts (5 U.S.C. section 553(a). Because notice and opportunity for comment are not required pursuant to 5 U.S.C. 553 or any other law, the analytical requirements of the Regulatory Flexibility Act (5 U.S.C. 601 et seq) are inapplicable. Therefore, a regulatory flexibility analysis has not been prepared.

Dated: March 22, 2004.
Louisa Koch,
Deputy Assistant Administrator, OAR, National Oceanic and Atmospheric Administration.

[FR Doc. 04-6722 Filed 3-24-04; 8:45 am]

BILLING CODE 3510-KB-U